DEPARTMENT OF DEFENSE

Department of the Army

Privacy Act of 1974; System of Records

AGENCY: Department of the Army, DoD.

ACTION: Notice to amend system of records.

SUMMARY: The Department of the Army is amending a system of records notice in its existing inventory of record systems subject to the Privacy Act of 1974, (5 U.S.C. 552a), as amended.

DATES: This proposed action will be effective without further notice on October 6, 2000 unless comments are received which result in a contrary determination.

ADDRESSES: Privacy Act System Notice Manager, Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 30, 2000.
L.M. Bynum,
Alternate OSD Federal Register Liaison Officer, Department of Defense.

A0095-1a TRADOC

System name:

Individual Flight Records Folder (February 1, 1996, 61 FR 3687).

Changes:

* * * * *

System location:

Delete entry and replace with ‘The original record folder is maintained at the individual’s unit of assignment. Upon transfer, the record folder is given to the individual to turn in at his/her new unit, except for personnel assigned to Fort Rucker.

Individual flight records of personnel assigned to Fort Rucker are located at the Directorate of Plans, Training, Mobilization, and Security, Resident Training Management Division, Student Support Branch, Flight Records Section, Building 5700, Room 210, Fort Rucker, AL 36362-5000. Upon leaving the service, the folder is turned in with all other official military records (personnel, finance, medical, dental, etc.) at the Adjutant General transfer point.

Individual flight records for contractor personnel are maintained by the designated Government Flight Representative at the contractor facility.'

* * * * *

Authority for maintenance of the system:

Delete entry and replace with ‘10 U.S.C. 3013, Secretary of the Army; and Army Regulation 95-20, Contractor Flight Operations; and E.O. 9397 (SSN).’

* * * * *

Retrievability:

Delete entry and replace with ‘By name, Social Security Number or Army Serial Number.’

Retention and disposal:

Delete entry and replace with ‘Active paper records are retained by the Flight Operations Facility until individual is transferred or separated. The records are transferred with the military personnel records jacket or civilian personnel folders, as appropriate. Upon separation or retirement of individual, the records are retired to the National Personnel Records Center (Civilian Personnel Records), 111 Winnebago Street, St. Louis, MO 63118 and U.S. Army Personnel Center (Military Personnel Records), and U.S. Army Reserve Components Personnel and Administration Center (Reserve Personnel), 9700 Page Street, St. Louis, MO 63132-5200; retained for 20 years after date earliest document in the folder.

Flight orders and Flight examinations are maintained until the end of the current calendar year for which they were conducted then destroyed 2 years and 1 year after the cutoff period of one year, respectively. Flight regulation violations are maintained until the case is closed then destroyed one year from the date of closure. Automated management information at system locations is retained until no longer needed for current operations.’

System manager(s) and address:

Delete entry and replace with ‘Commander, U.S. Army Aviation Center, Privacy Act Officer, Fort Rucker, AL 36362-5000.’

* * * * *

A0095-1a TRADOC

System name:

Individual Flight Records Folder.

System location:

The original record folder is maintained at the individual's unit of assignment. Upon transfer, the record folder is given to the individual to turn in at his/her new unit, except for personnel assigned to Fort Rucker.

Individual flight records of personnel assigned to Fort Rucker are located at the Directorate of Plans, Training, Mobilization, and Security, Resident Training Management Division, Student Support Branch, Flight Records Section, Building 5700, Room 210, Fort Rucker, AL 36362-5000. Upon leaving the service, the folder is turned in with all other official military records (personnel, finance, medical, dental, etc.) at the Adjutant General transfer point.

Individual flight records for contractor personnel are maintained by the designated Government Flight Representative at the contractor facility.

Categories of individuals covered by the system:

Army aviators who are members of the Active and Reserve Components and qualified and current in the aircraft to be flown; civilian employees of Government agencies and Government contractors who have appropriate certifications or ratings, flight surgeons or aeromedical physicians' assistants in aviation service, enlisted crew chief/crew members, aerial observers, personnel in non-operational aviation positions, and those restricted or prohibited by statute from taking part in aerial flights.

Categories of records in the system:

DA Forms 759 and 759-1 (Individual Flight and Flight Certificate Army (Sections I, II, and III)); DA Form 4186 (Medical Recommendations for Flying Duty), DD Form 1821 (Contractor Crewmember Record); Name, Social Security Number, home address, date of birth, security clearance data, education, waivers, qualifications, disqualifications, re-qualifications, training, proficiency, and experience data, medical and physiological data, approvals to operate Government aircraft, requests for approval or contractor flight crewmember and contractor qualification training, and similar relevant documents.

Authority for maintenance of the system:

10 U.S.C. 3013, Secretary of the Army; Army Regulation 95-20, Contractor Flight Operations; and E.O. 9397 (SSN).

Purpose(s):

To record the flying experience and qualifications data of each aviator, crew member, and flight surgeon in aviation service; and to monitor and manage individual contractor flight and ground personnel records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Federal Aviation Agency and/or the National Transportation Safety Board.

The DoD ‘Blanket Routine Uses’ set forth at the beginning of the Army's compilation of system of record notices apply to this record system.

Policies and practices for storing, retrieving, accessing, retaining, and disposing of records in the system:

Storage:

Paper records in file folders, notebooks, and selected data automated on computer tapes and discs for management purposes.

Retrievability:

By name, Social Security Number or Army Serial Number.

Safeguards:

Records are maintained in secure areas available only to designated persons having official need for the record.

Automated systems employ computer hardware/software safeguard features and controls which meet the administrative, physical, and technical safeguards of Army Regulation 380-19, Information Systems Security.

Retention and disposal:

Active paper records are retained by the Flight Operations Facility until individual is transferred or separated. The records are transferred with the military personnel records jacket or civilian personnel folders, as appropriate. Upon separation or retirement of individual, the records are retired to the National Personnel Records Center (Civilian Personnel Records), 111 Winnebago Street, St. Louis, MO 63118 and U.S. Army Personnel Center (Military Personnel Records), and U.S. Army Reserve Components Personnel and Administration Center (Reserve Personnel), 9700 Page Street, St. Louis, MO 63132-5200; retained for 20 years after date earliest document in the folder.

Flight orders and Flight examinations are maintained until the end of the current calendar year for which they were conducted then destroyed 2 years and 1 year after the cutoff period of one year, respectively. Flight regulation violations are maintained until the case is closed then destroyed one year from the date of closure. Automated management information at system locations is retained until no longer needed for current operations.

System manager(s) and address:

Commander, U.S. Army Aviation Center, Privacy Act Officer, Fort Rucker, AL 36362-5000.

Notification procedure:

Individuals seeking to determine if information about themselves is contained in this record system should address written inquiries to the Flight Operations Section of their current unit or contractor facility. If assigned to Fort Rucker and not on active duty, send written inquiries to addresses listed under System location: or to the system manager.

Individual should provide the full name, Social Security Number, details which will help locate the records, current address, and signature.

Record access procedures:

Individuals seeking access to records about themselves contained in this record system may visit or address written inquiries to the Flight Operations Section of their current unit or contractor facility. If assigned to Fort Rucker and not on active duty, send written inquiries to addresses listed under System location: or to the system manager.

Individual should provide the full name, Social Security Number, details which will help locate the records, current address, and signature.

Contesting record procedures:

The Army's rules for accessing records, contesting contents, and appealing initial determinations are contained in Army Regulation 340-21; 32 CFR part 505; or may be obtained from the system manager.

Record source categories:

From the individual, Federal Aviation Administration, flight surgeons, evaluation reports, proficiency and readiness tests, and other relevant records and reports.

Exemptions claimed for the system:

None.

[FR Doc. 00-22697 Filed 9-5-00; 8:45 am]

BILLING CODE 5001-10-F